DEPARTMENT OF ENERGY

Federal Energy Regulatory Commission

[Project No. 2466-037]

Appalachian Power Company; Notice of Intent to Prepare an Environmental Assessment

On February 28, 2022, Appalachian Power Company (Appalachian) filed an application for a new major license for the 2.4-megawatt Niagara Hydroelectric Project (Niagara Project; FERC No. 2466). The Niagara Project is located on the Roanoke River, in Roanoke County, Virginia. The project is adjacent to and partially within the Blue Ridge Parkway.

In accordance with the Commission's regulations, on February 7, 2023, Commission staff issued a notice that the project was ready for environmental analysis (REA Notice). Based on the information in the record, including comments filed on the REA Notice, staff does not anticipate that licensing the project would constitute a major federal action significantly affecting the quality of the human environment. Therefore, staff intends to prepare a draft and final Environmental Assessment (EA) on the application to relicense the Niagara Project.

The EA will be issued and circulated for review by all interested parties. All comments filed on the EA will be analyzed by staff and considered in the Commission's final licensing decision.

The application will be processed according to the following schedule. Revisions to the schedule may be made as appropriate.

¹ The Council on Environmental Quality's (CEQ) regulations under 40 CFR 1501.10(b)(1) require that EAs be completed within 1 year of the federal action agency's decision to prepare an EA. This notice establishes the Commission's intent to prepare a draft and final EA for the Niagara Project. Therefore, in accordance with CEQ's regulations, the final EA must be issued within 1 year of the issuance date of this notice.

Milestone | Target date
Commission issues draft EA | November 2023.
Comments on draft EA | December 2023.
Commission issues final EA | April 2024.¹

Any questions regarding this notice may be directed to Laurie Bauer at (202) 502-6519 or laurie.bauer@ferc.gov.

Dated: April 26, 2023.
Kimberly D. Bose,
Secretary.

[FR Doc. 2023-09244 Filed 5-1-23; 8:45 am]

BILLING CODE 6717-01-P